DEPARTMENT OF COMMERCE

International Trade Administration

[A-307-803]

Gray Portland Cement and Cement Clinker From Venezuela; Final Results of Sunset Review of Suspended Antidumping Duty Investigation

AGENCY: Import Administration, International Trade Administration, Department of Commerce.

ACTION: Notice of Final Results of Full Sunset Review: Gray Portland Cement and Cement Clinker From Venezuela.

SUMMARY: On February 28, 2000, the Department of Commerce (“the Department”) published a notice of preliminary results of the full sunset review of the suspended antidumping duty investigation on gray portland cement and cement clinker from Venezuela (65 FR 10467) pursuant to section 751(c) of the Tariff Act of 1930, as amended (“the Act”). We provided interested parties an opportunity to comment on our preliminary results. We received comments only from domestic interested parties. As a result of this review, the Department finds that termination of this agreement would be likely to lead to continuation or recurrence of dumping at the rates indicated in the Final Results of Review section of this notice.

FOR FURTHER INFORMATION CONTACT: Eun W. Cho or Carole Showers, Office of Policy for Import Administration, International Trade Administration, U.S. Department of Commerce, 14th Street and Constitution Avenue, NW, Washington, DC 20230; telephone: (202) 482-1698 or (202) 482-3217, respectively.

EFFECTIVE DATE: July 3, 2000.

Statute and Regulations

Unless otherwise indicated, all citations to the Act of 1930 are references to the provisions effective January 1, 1995, the effective date of the amendments made to the Act by the Uruguay Round Agreements Act (“URAA”). In addition, unless otherwise indicated, all citations to the Department regulations are to 19 CFR part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (Sunset Policy Bulletin).

Background

On February 28, 2000, the Department published in the Federal Register a notice of preliminary results of the suspended antidumping duty investigation on gray portland cement and cement clinker from Venezuela pursuant to section 751(c) of the Act. In our preliminary results, we determined that termination of the suspended antidumping duty investigation would be likely to lead to continuation or recurrence of dumping. In addition, we preliminarily determined that the following weighted-average dumping margins are likely to prevail if the order were revoked: 50.02 percent for Venezolana de Cementos, S.A.C.A. (“Vencemos”); 49.20 percent for Cementos Caribe, C.A. (“Caribe”); and 49.26 percent for all others.

Only domestic interested parties submitted a case brief within the deadline specified in 19 CFR 351.309(c)(1)(i). (See domestic interested parties' April 10, 2000, case brief.)

Scope of Review

The products covered by this order include gray portland cement and cement clinker (“portland cement”) from Venezuela. Gray portland cement is a hydraulic cement and the primary component of concrete. Clinker, an intermediate material product produced when manufacturing cement, has no use other than of being ground into finished cement. Oil well cement is also included within the scope of the investigation. Gray portland cement is currently classifiable under the Harmonized Tariff Schedule (“HTS”) item number 2523.29 and cement clinker is currently classifiable under HTS item number 2523.10. Gray portland cement has also been entered under HTS item number 2523.90 as other hydraulic cements. The HTS subheadings are provided for convenience and customs purposes only. Our written description of the scope of the proceeding is dispositive.

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated June 27, 2000, which is hereby adopted by this notice. The issues discussed in the Decision Memo include the likelihood of continuation or recurrence of dumping and the magnitude of the margin likely to prevail were the order revoked. Parties can find a complete discussion of all issues raised in this review and the corresponding recommendations in this public memorandum which is on file in the Central Records Unit, room B-099, of the main Commerce Building.

In addition, a complete version of the Decision Memo can be accessed directly on the Web at www.ita.doc.gov/import_admin/records/frn/. The paper copy and electronic version of the Decision Memo are identical in content.

Final Results of Review

We determine that termination of the suspended antidumping duty investigation on portland cement from Venezuela would be likely to lead to continuation or recurrence of dumping at the following percentage weighted-average margins:

Manufacturer/exporter | Margin (percent)
Vencemos | 50.02
Caribe | 49.20
All others | 49.26

This notice also serves as the only reminder to parties subject to administrative protective orders (“APO”) of their responsibility concerning the return or disposition of proprietary information disclosed under APO in accordance with 19 CFR 351.305 of the Department's regulations. Timely written notification of the return or destruction of APO materials or conversion to judicial protective order is hereby requested. Failure to comply with the regulations and terms of an APO is a violation which is subject to sanction.

This five-year (“sunset”) review and notice are in accordance with sections 751(c), 752, and 777(i)(1) of the Act.

Dated: June 27, 2000.
Troy H. Cribb,
Acting Assistant Secretary for Import Administration.

[FR Doc. 00-16793 Filed 6-30-00; 8:45 am]

BILLING CODE 3510-DS-P